DEPARTMENT OF COMMERCE

National Oceanic and Atmospheric Administration

RIN 0648-XC805

Pacific Fishery Management Council; Public Meeting

AGENCY: National Marine Fisheries Service (NMFS), National Oceanic and Atmospheric Administration (NOAA), Commerce.

ACTION: Notice of public meeting.

SUMMARY: The Pacific Fishery Management Council (Pacific Council) will convene a meeting of the Salmon Technical Team (STT), the Salmon Advisory Subpanel (SAS), and the Model Evaluation Workgroup (MEW) by telephone conference that is open to the public.

DATES: The teleconference will be held on Tuesday, September 3, 2013 from 3 p.m. to 5 p.m., or when business for the call is completed.

ADDRESSES: A public listening station will be available at the Pacific Council Office, Small Conference Room, 7700 NE Ambassador Place, Suite 101, Portland, OR 97220-1384; telephone: (503) 820-2280.

FOR FURTHER INFORMATION CONTACT: Mike Burner, Staff Officer; telephone: (503) 820-2280.

SUPPLEMENTARY INFORMATION: Please note, this is not a public hearing; it is a work session for the purpose of drafting reports and recommendations for the September 12-17, 2013 Council meeting in Boise, ID. The primary purpose of the meeting is to review information in the Pacific Council's September 2013 meeting briefing book related to salmon and ecosystem-based management, and to develop comments and recommendations for consideration at the September 2013 Pacific Council meeting.

Although non-emergency issues not contained in the meeting agenda may come before the group for discussion, those issues may not be the subject of formal SAS, STT, or MEW action during this meeting. Action will be restricted to those issues specifically listed in this notice and any issues arising after publication of this notice that require emergency action under section 305(c) of the Magnuson-Stevens Fishery Conservation and Management Act, provided the public has been notified of the intent to take final action to address the emergency.

Special Accommodations

This meeting is physically accessible to people with disabilities. Requests for sign language interpretation or other auxiliary aids should be directed to Mr. Kris Kleinschmidt, at (503) 820-2280, at least 5 days prior to the meeting date.

Dated: August 8, 2013.
Tracey L. Thompson,
Acting Deputy Director, Office of Sustainable Fisheries, National Marine Fisheries Service.

[FR Doc. 2013-19567 Filed 8-12-13; 8:45 am]

BILLING CODE 3510-22-P